DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on proposed extension of a currently approved information collection. In accordance with the Paperwork Reduction Act of 1995 (44 U.S.C. 3506(c)(2)(A)), this notice seeks comments concerning the certification of flood proof residential basements in Special Flood Hazard Areas.

SUPPLEMENTARY INFORMATION: The National Flood Insurance Program (NFIP) administered by the Federal Emergency Management Agency (FEMA), regulation 44 CFR 60.3, Floodplain Management Criteria for Flood-Prone Areas, ensures that communities participating in the NFIP, in Special Flood Hazard Areas (SFHAs), have basement construction at the lowest flood elevation or above the 100 year flood elevation, or Base Flood Elevation (BFE). This requirement reduces the risks of flood hazards to new buildings in SFHAs and reduces insurance rates. However, FEMA regulation 44 CFR 60.6(c) allows communities to apply for an exception to permit and certify the construction of flood proof residential basements in SFHAs. This certification must ensure that the community has demonstrated that the areas of special flood hazard, in which residential basements will be permitted, are subject to shallow and low velocity flooding and adequate flood warning time to notify residents of impending floods. This allows the community to ensure that local floodplain management ordinances are met as well as a certificate that allows homeowners to receive a “discounted” flood insurance rate applicable to flood proof basements.

Collection of Information

Title: Residential Basement Floodproofing Certificate.

Type of Information Collection: Extension of a currently approved collection.

OMB Number: 1660-0033.

Form Numbers. FEMA Form 81-78.

Abstract: FEMA Form 81-78 is only used in communities that have been granted an exception by FEMA to allow the construction of flood proof residential basements in Special Flood Hazard Areas (SFHAs). Homeowners must have a registered professional engineer or architect complete FEMA Form 81-78 for development or inspection of structural design basements and certify that the basement design and methods of construction are in accordance with floodplain management ordinances. In any case homeowners are responsible for the fees involved with these services. Homeowners also provide FEMA Form 81-78 to their insurance agent to receive discounted flood insurance under the National Flood Insurance Program (NFIP).

Affected Public: Individuals or Households.

Number of Respondents: 50.

Frequency of Response: On occasions.

Hour Burden Per Response: 3.25 hrs. There are three inspections during the construction for a flood proof basement. Each inspection is estimated to be 45 minutes, plus one hour for the review of basement design documentation and recordkeeping by insurance agents and community officials. Therefore, 45 minutes times three inspections plus one hour for review and recordkeeping = 3.25 hours per response.

Estimated Total Annual Burden Hours: 163 hours.

Estimated Cost: $16,250. FEMA Form 81-78 has a one time cost when used to certify the design of a flood proof basement by an engineer or architect. The estimated cost of professional engineering services is $100 per hour. This rate is based on $65 per hour of a certified engineer or architect and an overhead cost of approximately $35. Therefore, $100 per hour times 3.25 burden hours = $325 total cost to respondent. There are 50 respondents times $325 per respondent = $16,250 total annual cost to respondents.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, U.S. Department of Homeland Security, 500 C Street, SW., Room 316, Washington, DC 20472, or e-mail address: InformationCollections@fema.gov.

FOR FURTHER INFORMATION CONTACT: Paul Tertell, PE, Civil Engineer, Program Policy and Assessment Branch, Mitigation Division, 202-646-3935 for additional information regarding this information collection. You may contact Ms. Anderson for copies of the proposed information collection at the e-mail address above.

Dated: September 15, 2003.
Edward W. Kernan,
Division Director, Information Resources Management Division, Information Technology Services Directorate.

[FR Doc. 03-24126 Filed 9-18-03; 12:01 pm]

BILLING CODE 6718-01-P